COMMISSION ON CIVIL RIGHTS

Notice of Public Meeting of the Texas Advisory Committee

AGENCY: U.S. Commission on Civil Rights.

ACTION: Announcement of meeting.

SUMMARY: Notice is hereby given, pursuant to the provisions of the rules and regulations of the U.S. Commission on Civil Rights (Commission) and the Federal Advisory Committee Act (FACA) that a meeting of the Texas Advisory Committee (Committee) to the Commission will be held at 9:00 a.m. to 5:00 p.m. (Central Time) Tuesday, March 13, 2018. The purpose of the briefing is for the Committee to receive testimony regarding potential barriers to voting such as voter registration, access to and administration of polling locations, and language access that may have a disparate impact on voters on the basis of race, color, religion, sex, age, disability, or national origin.

DATES: The meeting will be held on Tuesday, March 13, 2018, at 9:00 a.m. to 5:00 p.m. CT.

Location: University of Houston Law Center, Krost Hall, 4604 Calhoun Road, Houston, TX 77004.

FOR FURTHER INFORMATION CONTACT: Ana Victoria Fortes (DFO) at afortes@usccr.gov or (213) 894-3437.

SUPPLEMENTARY INFORMATION: Members of the public are entitled to make comments during the open comment periods. Members of the public may also submit written comments; the comments must be received in the Regional Programs Unit within 30 days following the meeting. Written comments may be mailed to the Western Regional Office, U.S. Commission on Civil Rights, 300 North Los Angeles Street, Suite 2010, Los Angeles, CA 90012. They may be faxed to the Commission at (213) 894-0508, or emailed Ana Victoria Fortes at afortes@usccr.gov. Persons who desire additional information may contact the Regional Programs Unit at (213) 894-3437.

Records and documents discussed during the meeting will be available for public viewing prior to and after the meeting at https://facadatabase.gov/committee/meetings.aspx?cid=276.

Please click on the “Meeting Details” and “Documents” links. Records generated from this meeting may also be inspected and reproduced at the Regional Programs Unit, as they become available, both before and after the meeting. Persons interested in the work of this Committee are directed to the Commission's website, https://www.usccr.gov, or may contact the Regional Programs Unit at the above email or street address.

Agenda

I. Opening Remarks and Introductions (9:00-9:15 a.m.)

II. Academic (9:15-10:15 a.m.)

Michael Adams, Dean of the School of Public Affairs, Texas Southern University

Rogelio Saenz, Dean of the College of Public Policy, University of Texas at San Antonio

Teddy Rave, Assistant Professor of Law, University of Houston Law Center

III. Advocacy Groups (10:25-11:40 a.m.)

Frank Jackson, Former Mayor of Prairie View

Aaron Harris, Founder, Direct Action Texas

Ernest Herrera, Staff Attorney, Mexican American Legal Defense and Education Fund

Garry Bledsoe, President, Texas National Association for the Advancement of Colored People

Jerry Vattamala, Director of the Democracy Program, Asian American Legal Defense and Education Fund

IV. A.M. Open Forum (11:45 a.m.-12:15 p.m.)

V. Break (12:15-1:30 p.m.)

VI. Election Officials & Lawmakers (1:30-2:45 p.m.)

Rodney Ellis, Commissioner, Harris County, Precinct 1

Celia Israel, Representative, Texas House of Representatives

VII. Voters (3:00-4:15 p.m.)

VIII. P.M. Open Forum (4:15-4:45 p.m.)

IX. Closing Remarks (4:45-5:00 p.m.)

Dated: February 23, 2018.
David Mussatt,
Supervisory Chief, Regional Programs Unit.

[FR Doc. 2018-04143 Filed 2-28-18; 8:45 am]

BILLING CODE P